ENVIRONMENTAL PROTECTION AGENCY

40 CFR Chapter I

[EPA-HQ-OPPT-2008-0627; FRL-8401-3]

RIN 2070-AJ44

Formaldehyde Emissions from Pressed Wood Products; Extension of Comment Period and Notice of Sixth Public Meeting

AGENCY: Environmental Protection Agency (EPA).

ACTION: Advance notice of proposed rulemaking; extension of comment period.

SUMMARY: EPA issued an advanced notice of proposed rulemaking (ANPR) in the Federal Register of December 3, 2008, describing EPA's initial steps to investigate and request comment, information, and data relating to formaldehyde emissions from pressed wood products. The ANPR also announced five public meetings that EPA scheduled in order to obtain additional stakeholder input. EPA is announcing today one additional public meeting to enable more complete public participation. Additionally, this document extends the comment period for 45 days, from February 2, 2009, to March 19, 2009. This extension is necessary to provide the public with an opportunity to provide additional and more thorough comments to the docket.

DATES: Comments, identified by docket identification (ID) number EPA-HQ-OPPT-2008-0627, must be received on or before March 19, 2009.

The meeting will be held on March 4, 2009, from 1 p.m. until the last speaker has spoken or to 5 p.m.

ADDRESSES: Follow the detailed instructions as provided under ADDRESSES in the Federal Register document of December 3, 2008, for the submission of comments.

The meeting will be held at the Sheraton New Orleans Hotel, 500 Canal St., New Orleans, LA.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Cindy Wheeler, National Program Chemicals Division (7404T), Office of Pollution Prevention and Toxics, Environmental Protection Agency, 1200 Pennsylvania Ave., NW., Washington, DC 20460-0001; telephone number: (202) 566-0484; e-mail address: wheeler.cindy@epa.gov.

SUPPLEMENTARY INFORMATION: This document extends the public comment period established in the Federal Register of December 3, 2008 (73 FR 73620) (FRL-8386-3). In that document, EPA announced its plans to begin its investigation of formaldehyde emissions from pressed wood products and the Agency's intention to involve stakeholders in gathering information to better inform EPA's decision making process. EPA also planned 5 half-day public meetings in January of 2009. The purpose of these meetings was to receive stakeholder comments on the issue of formaldehyde emissions from pressed wood products, including the questions described in the December 3, 2008 Federal Register document, and on future opportunities for public participation on this issue. To enable more complete public participation EPA is also adding an additional public meeting in New Orleans, LA, on March 4, 2009, from 1 p.m. until the last speaker has spoken or to 5 p.m. in the Sheraton New Orleans Hotel, 500 Canal St. Additionally, EPA is hereby extending the comment period, which was set to end on February 2, 2009, to March 19, 2009.

To submit comments, or access the public docket, please follow the detailed instructions as provided under ADDRESSES in the December 3, 2008 Federal Register document. If you have questions, consult the technical person listed under FOR FURTHER INFORMATION CONTACT.

List of Subjects

Environmental protection, Housing, Toxic substances, Wood.

Dated: January 26, 2009.
James Jones,
Acting Assistant Administrator, Office of Pesticides, Prevention and Toxic Substances.

[FR Doc. E9-2030 Filed 1-27-09; 4:15 pm]

BILLING CODE 6560-50-S